NATIONAL AERONAUTICS AND SPACE ADMINISTRATION

[Notice (08-088)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: November 12, 2008.

FOR FURTHER INFORMATION CONTACT: Bryan A. Geurts, Patent Counsel, Goddard Space Flight Center, Mail Code 140.1, Greenbelt, MD 20771-0001; telephone (301) 286-7351; fax (301) 286-9502.

NASA Case No. GSC-15158-1: Nanophase Dispersion Strengthened Low CTE Alloy;

NASA Case No. GSC-15364-1: Particle Surface Interaction Model and Method of Determining Particle Surface Interactions;

NASA Case No. GSC-15217-1: Spaceflight High Data Rate Radiation Hard KA-Band Modulator;

NASA Case No. GSC-15163-1: Detector for Dual Band Ultraviolet Detection;

NASA Case No. GSC-15445-1: Improved Time Delay and Distance Measurement;

NASA Case No. GSC-15416-1: Directed Flux Motor utilizing Concentric Magnets and Interwoven Flux Channels;

NASA Case No. GSC-15417-1: Joint Assembly;

NASA Case No. GSC-15419-1: Walk and Roll Robot;

NASA Case No. GSC-15208-1: Direct Solve Image Based Wavefront Sensing;

NASA Case No. GSC-15349-1: Multiple Frequency Optical Mixer and Demultiplexer and Apparatus for Remote Sensing;

NASA Case No. GSC-15136-1: Blocking Contacts for N-Type Cadmium Zinc Telluride;

NASA Case No. GSC-15470-1: Broadband Planar Magic-T with Low-Phase and Amplitude Imbalance;

NASA Case No. GSC-15483-1: A Method and Apparatus for Relative Navigation Using Reflected GPS Signals.

Dated: November 4, 2008.
Michael C. Wholley,
General Counsel.

[FR Doc. E8-26818 Filed 11-10-08; 8:45 am]

BILLING CODE 7510-13-P